DEPARTMENT OF ENERGY

Federal Energy Regulatory Commission

Combined Notice of Filings # 1

April 9, 2009.

Take notice that the Commission received the following electric corporate filings:

Docket Numbers: EC09-66-000.

Applicants: Lehman White Creek Wind Holdings LLC, White Creek Wind I Holdings, LLC, White Creek I, LLC, New York Life Insurance Company.

Description: Joint Application for Authorization for Disposition of Jurisdictional Facilities and Acquisition of Securities and Request for Confidential Treatment, Certain Waivers, and Expedited Notice and Action by May 15, 2009.

Filed Date: 04/08/2009.

Accession Number: 20090408-5135.

Comment Date: 5 p.m. Eastern Time on Wednesday, April 29, 2009.

Take notice that the Commission received the following electric rate filings:

Docket Numbers: ER00-2173-009; ER00-3219-007.

Applicants: Northern Indiana Public Service Company; Energy USA-TPC Corp.

Description: Supplemental Information/Request of Northern Indiana Public Service Company.

Filed Date: 03/24/2009.

Accession Number: 20090324-5097.

Comment Date: 5 p.m. Eastern Time on Tuesday, April 14, 2009.

Docket Numbers: ER09-963-000.

Applicants: Midwest Independent Transmission System Operator, Inc.

Description: Midwest Independent Transmission System Operator, Inc. submits Original Service Agreement 7224 to FERC Electric Tariff, Third Revised Volume 1; request to terminate the Market Participant Agreement and Service Agreement.

Filed Date: 04/07/2009.

Accession Number: 20090408-0246.

Comment Date: 5 p.m. Eastern Time on Tuesday, April 28, 2009.

Docket Numbers: ER09-964-000.

Applicants: Midwest Independent Transmission System Operator, Inc.

Description: Midwest Independent Transmission System Operator, Inc. submits request to terminate the market participant agreement between the Midwest ISO and the AI Funds, LLC and notice regarding continuing and anticipated default.

Filed Date: 04/07/2009.

Accession Number: 20090408-0248.

Comment Date: 5 p.m. Eastern Time on Tuesday, April 28, 2009.

Docket Numbers: ER09-965-000.

Applicants: Midwest Independent Transmission System Operator, Inc.

Description: Midwest Independent Transmission System Operator, Inc. submits request to terminate the market participant agreement between the Midwest ISO and Palms Asset Management LLC and notice regarding continuing and anticipated default.

Filed Date: 04/07/2009.

Accession Number: 20090408-0139.

Comment Date: 5 p.m. Eastern Time on Tuesday, April 28, 2009.

Take notice that the Commission received the following electric securities filings:

Docket Numbers: ES07-34-001; ES08-29-002.

Applicants: System Energy Resources, Inc.; Entergy Services, Inc.

Description: Supplemental Information of System Energy Resources, Inc.

Filed Date: 04/08/2009.

Accession Number: 20090408-5121.

Comment Date: 5 p.m. Eastern Time on Monday, April 20, 2009.

Take notice that the Commission received the following open access transmission tariff filings:

Docket Numbers: OA07-53-005.

Applicants: Progress Energy, Inc.

Description: Annual Penalty Revenues Refund Report of Carolina Power & Light Company and Florida Power Corporation.

Filed Date: 04/09/2009.

Accession Number: 20090409-5031.

Comment Date: 5 p.m. Eastern Time on Thursday, April 30, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. E9-8770 Filed 4-16-09; 8:45 am]

BILLING CODE 6717-01-P